FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 19, 2008.

A. Federal Reserve Bank of Atlanta (Steve Foley, Vice President) 1000 Peachtree Street, N.E., Atlanta, Georgia 30309:

1. Marion Edwin Lowery, Franklin, Tennessee, to acquire voting shares of Farmers Bancorp, Inc., and thereby indirectly acquire voting shares of Farmers Bank of Lynchburg, both of Lynchburg, Tennessee.

B. Federal Reserve Bank of Minneapolis (Jacqueline G. King, Community Affairs Officer) 90 Hennepin Avenue, Minneapolis, Minnesota 55480-0291:

1. The Yvonne M. Connolly Irrevocable Trust and Yvonne M. Connolly, as co trustee, both of Benson, Minnesota, to retain and acquire additional voting shares of West 12 Bancorporation, Inc., and thereby indirectly retain and acquire additional voting shares of State Bank of Danvers, both of Danvers, Minnesota.

Board of Governors of the Federal Reserve System, May 30, 2008.
Robert deV. Frierson,
Deputy Secretary of the Board.

[FR Doc. E8-12415 Filed 6-3-08; 8:45 am]

BILLING CODE 6210-01-S